DEPARTMENT OF HEALTH AND HUMAN SERVICES

National Institutes of Health

Proposed Collection; Comment Request; NIH Intramural Research, Training Program Application

Summary: In compliance with the requirement of section 3506(c)(2)(A) of the Paperwork Reduction Act of 1995, for opportunity for public comment on proposed data collection projects, the Office of the Director, the National Institutes of Health (NIH) will publish periodic summaries of proposed projects to be submitted to the Office of Management and Budget (OMB) for review and approval.

Proposed Collection

Title: NIH Intramural Research Training Program Applications.

Type of Information Collection Request: Revision/OMB No. 0925-0299; February 28, 2006.

Need and Use of Information Collection: The proposed information collection activity is for the purpose of collecting data related to the availability of Training Fellowships in the NIH Intramural Research Program. This information must be submitted in order to receive due consideration for a fellowship and will be used to determine the eligibility and quality of potential awardees.

Frequency of Response: On occasion.

Affected Public: Individuals seeking Intramural Training Opportunities and references for these individuals.

Type of Respondents: Postdoctoral, predoctoral, post-baccalaureate, technical, clinical, and student IRTA applicants. There are no capital costs, operating costs, and/or maintenance costs to report.

Type of respondent | Estimated number of respondents | Estimated number of responses per respondent | Average burden hours per response | Estimated total annual burden hours requested
Postdoctoral | 1,000 | 3.00 | 1.00 | 3,000
Predoctoral | 175 | 1.00 | 1.00 | 175
Postbaccalaureate | 2,090 | 1.00 | 1.00 | 2,090
Technical | 175 | 1.00 | 1.00 | 175
Clinical | 300 | 1.00 | 1.00 | 300
Student | 7,000 | 1.00 | 1.00 | 7,000
References for all categories | 31,395 | 1.00 | 0.33 | 10,360
Total | 42,135 | 1.0474665 | 0.5482378 | 23,100

Request for Comments

Written comments and/or suggestions from the public and affected agencies are invited on one or more of the following points: (1) Whether the proposed collection of information is necessary for the proper performance of the agency, including whether the information will have practical utility; (2) The accuracy of the agency's estimate of the proposed collection of information, including the validity of the methodology and assumptions used; (3) Ways to enhance the quality, utility, and the clarity of information to be collected; and (4) Ways to minimize the burden of the collection of information on those who are to respond, including the use of appropriate automated, electronic, mechanical, or other technological collection techniques or other forms of information technology.

For Further Information Contact: To request more information on the proposed project or to obtain a copy of the data collection plans and instruments, contact: Steve Alves, Web site Programs Specialist, Office of Intramural Training and Education, OD, NIH, Building 2, Room 2W17, 2 Center Drive MSC 0240, Bethesda, MD 20892-0240, or call non-toll-free number (301) 402-1294, or e-mail your request, including your address to: alvess@mail.nih.gov.

Comments Due Date: Comments regarding this information collection are best assured of having their full effect if received within 60 days of the date of this publication.

Dated: January 23, 2006.
Christine Major,
Acting Director, Office of Human Resources, National Institutes of Health.

[FR Doc. 06-1140 Filed 2-7-06; 8:45 am]

BILLING CODE 4140-01-M